DEPARTMENT OF THE INTERIOR

National Park Service

Notice of Boundary Revision, Big Thicket National Preserve

SUMMARY: This notice announces a revision to the boundary of Big Thicket National Preserve to include three parcels of land. Two were donated by the Lower Neches Valley Authority and one donated by Thomas E. Nevinger and Joyce Rash Nevinger. The National Park Service has determined that this boundary revision will make a significant contribution to the purpose for which the preserve was created.

DATES: The effective date of this Order is the date of the Federal Register publication in which this Order appears.

FOR FURTHER INFORMATION CONTACT: Superintendent, Big Thicket National Preserve, 3785 Milam Street, Beaumont, TX 77701, or by telephone at (409) 839-2689.

SUPPLEMENTARY INFORMATION: Section 1 of Act of October 11, 1974, Pub. L. 93-439, 88 Stat. 1254, codified as amended at 16 U.S.C. 698 (1994), authorizes the Secretary of the Interior to accept title to any land or interests in land located outside the boundaries of the Big Thicket National Preserve which any private person, organization, or public or private corporation may offer to donate to the United States if he finds that such lands would make a significant contribution to the purpose for which the preserve was created. Pursuant to the above-cited act, the boundary of the Menard Creek Corridor Unit of the preserve is being revised to include those lands donated by Thomas E. Nevinger and Joyce Rash Nevinger comprised of Tract 127-09 containing 1.10 acres of land, within Liberty County, Texas, depicted on land acquisition status map, segment 127 having drawing number 175-30,005. The boundary of the Beaumont Unit of the preserve is being revised to include those lands donated by Lower Neches Valley Authority comprised of Tract 193-07 containing 333.88 acres and Tract 193-08 containing 27.64 acres as depicted on land acquisition status map, segment 193 having drawing number 175-30,009. These maps are on file at the Office of the National Park Service, Land Resources Program Center, Intermountain Region and the Office of the Superintendent, Big Thicket National Preserve.

Dated: August 3, 2004.
William D. Shaddox,
Regional Director, Intermountain Region.

[FR Doc. 04-24171 Filed 10-28-04; 8:45 am]

BILLING CODE 4312-CB-M